FEDERAL RETIREMENT THRIFT INVESTMENT BOARD

Sunshine Act; Notice of Meeting

TIME AND DATE: 10 a.m. (Eastern Time) August 16, 2010.

PLACE: 4th Floor Conference Room, 1250 H Street, NW., Washington, DC 20005.

STATUS: Parts will be open to the public and parts closed to the public.

MATTERS TO BE CONSIDERED:

Parts Open to the Public

1. Approval of the minutes of the July 19, 2010 Board Member Meeting.

2. Thrift Savings Plan Activity Report by the Executive Director:

a. Monthly Participant Activity Report.

b. Monthly Investment Performance Review.

c. Legislative Report.

Parts Closed to the Public

3. Personnel.

4. Security.

CONTACT PERSON FOR MORE INFORMATION: Thomas J. Trabucco, Director, Office of External Affairs, (202) 942-1640.

Dated: August 6, 2010.
Thomas K. Emswiler,
Secretary, Federal Retirement Thrift Investment Board.

[FR Doc. 2010-19883 Filed 8-9-10; 11:15 am]

BILLING CODE 6760-01-P